DEPARTMENT OF COMMERCE

Bureau of Economic Analysis

Agency Information Collection Activities; Submission for Office of Management and Budget (OMB) Review; Comment Request; Expenditures Incurred by Recipients of Biomedical Research and Development Awards From the National Institutes of Health (NIH)

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on March 21, 2023 during a 60-day comment period. This notice allows for an additional 30 days for public comments.

Agency: Bureau of Economic Analysis (BEA), Commerce.

Title: Expenditures Incurred by Recipients of Biomedical Research and Development Awards from the National Institutes of Health (NIH).

OMB Control Number: 0608-0069.

Form Number(s): None.

Type of Request: Regular submission, extension of a current information collection.

Number of Respondents: 150.

Average Hours per Response: 16 hours is the average but may vary among respondents because of differences in institution structure, size, and complexity.

Burden Hours: 2,400 hours.

Needs and Uses: The survey obtains the distribution of expenditures incurred by recipients of biomedical research awards from the NIH and will provide information on how the NIH award amounts are expended across several major categories. This information, along with wage and price data from other published sources, will be used to generate the Biomedical Research and Development Price Index (BRDPI). The BRDPI is an index of prices paid for the labor, supplies, equipment, and other inputs required to perform the biomedical research the NIH supports in its intramural laboratories and through its awards to extramural organizations. The BRDPI is a vital tool for planning the NIH research budget and analyzing future NIH programs. A survey of award recipients is currently the only means for updating the expenditure category weights that are used to prepare the BRDPI. BEA develops the index for NIH under a reimbursable interagency agreement.

A survey questionnaire with a cover letter that includes a brief description of, and rationale for, the survey will be sent to potential respondents by August 2023, 2024, and 2025. A report of the respondent's expenditures of the NIH award amounts following the proposed format for expenditure categories attached to the survey's cover letter, will be requested to be returned no later than December 8 of each survey year, which in most years will be approximately 120 days after mailing. Survey respondents will be selected based on award levels, which determine the weight of the respondent in the BRDPI. BEA proposes to survey 150 organizations that receive NIH biomedical research awards. This will include the top 100 organizations in total awards received; 40 additional organizations that are not primarily in the “Research and Development (R&D) contracts” category; and 10 additional organizations that are primarily in the “R&D contracts” category. Based on awards data for Fiscal Year 2022 by type of organization, the top 100 organizations received $25.2 billion in awards (approximately 76 percent of total awards); the remaining awards-receiving organizations received $8.1 billion.

Affected Public: Universities or other organizations that are NIH award recipients.

Frequency: Annual.

Respondent's Obligation: Voluntary.

Legal Authority: 45 CFR 75.302, 75.308, 75.361, and 75.364; 15 U.S.C. 1525; 42 U.S.C. 282.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0608-0069.

Sheleen Dumas,
Department PRA Clearance Officer, Office of the Under Secretary for Economic Affairs, Commerce Department.

[FR Doc. 2023-11725 Filed 6-1-23; 8:45 am]

BILLING CODE 3510-06-P